DEPARTMENT OF COMMERCE

International Trade Administration

[C-570-968]

Aluminum Extrusions From the People's Republic of China: Preliminary Results of Countervailing Duty Administrative Review, and Rescission, in Part; 2021

AGENCY: Enforcement and Compliance, International Trade Administration, Department of Commerce.

SUMMARY: The U.S. Department of Commerce (Commerce) preliminarily determines that countervailable subsidies are being provided to producers and exporters of aluminum extrusions from the People's Republic of China (China) during the period or review (POR), January 1, 2021, through December 31, 2021. Interested parties are invited to comment on these preliminary results.

DATES: Applicable February 3, 2023.

FOR FURTHER INFORMATION CONTACT: Caitlin Monks, AD/CVD Operations, Office VI, Enforcement and Compliance, International Trade Administration, U.S. Department of Commerce, 1401 Constitution Avenue NW, Washington, DC 20230; telephone: (202) 482-2670.

SUPPLEMENTARY INFORMATION:

Background

On July 14, 2022, Commerce published the notice of initiation of this administrative review of the countervailing duty order on aluminum extrusion from China.¹ For a complete description of the events that followed the initiation of this review, see the Preliminary Decision Memorandum.² The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

¹ See Initiation of Antidumping and Countervailing Duty Administrative Reviews, 87 FR 42144 (July 14, 2022).

² See Memorandum, “Decision Memorandum for the Preliminary Results of the Countervailing Duty Administrative Review, Rescission of Review in Part, 2021: Aluminum Extrusions from the People's Republic of China,” dated concurrently with, and hereby adopted by, this notice (Preliminary Decision Memorandum).

Scope of the Order ³

³ See Aluminum Extrusions from the People's Republic of China: Countervailing Duty Order, 76 FR 30653 (May 26, 2011) (Order).

The products covered by the Order are aluminum extrusions from China. For a complete description of the scope of the Order, see the Preliminary Decision Memorandum.

Rescission of Administrative Review, in Part

Pursuant to 19 CFR 351.213(d)(1), Commerce will rescind an administrative review, in whole or in part, if the parties that requested a review withdraw the request within 90 days of the date of publication of the notice of initiation. The Aluminum Extrusions Fair Trade Committee (the petitioner) timely withdrew its request for review of 81 companies.⁴ No other party requested a review of these companies. Therefore, in accordance with 19 CFR 351.213(d)(1), Commerce is rescinding this administrative review of the Order with respect to these 81 companies. The complete list of the 81 companies for which Commerce is rescinding this administrative review is included in Appendix I of this notice. For additional information regarding this determination, see the Preliminary Decision Memorandum.

⁴ See Petitioner's Letter, “Partial Withdrawal of Request for Administrative Review,” dated September 23, 2022.

Methodology

Commerce is conducting this administrative review in accordance with section 751(a)(1)(A) of the Tariff Act of 1930, as amended (the Act). For each of the subsidy programs found countervailable, we preliminarily find that there is a subsidy, i.e., a financial contribution that gives rise to a benefit to the recipient, and that the subsidy is specific.⁵

⁵ See sections 771(5)(B) and (D) of the Act regarding financial contribution; section 771(5)(E) of the Act regarding benefit; and section 771(5A) of the Act regarding specificity.

In reaching these preliminary results, Commerce relied on facts otherwise available, with the application of adverse inferences, pursuant to section 776 of the Act. For further information, see “Use of Facts Otherwise Available and Application of Adverse Inferences” in the accompanying Preliminary Decision Memorandum.

Preliminary Results of Review

We preliminarily determine the following net countervailable subsidy rates for the period January 1, 2021, through December 31, 2021:

Producer/exporter | Subsidy rate (percent)
Guangdong Victor A | 293.85
Hui Qian (Shanghai) International Trading Co., Ltd | 293.85
Sichuan Hangxin New Glazing Material Co., Ltd | 293.85

Assessment Rates

Consistent with section 751(a)(1) of the Act and 19 CFR 351.212(b)(2), upon issuance of the final results, Commerce will determine, and the U.S. Customs and Border Protection (CBP) shall assess, countervailing duties on all appropriate entries covered by this review. We intend to issue these instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the companies for which we have rescinded this administrative review, we will instruct CBP to assess countervailing duties on all appropriate entries at a rate equal to the cash deposit of estimated countervailing duties required at the time of entry, or withdrawn from warehouse, for consumption, during the period January 1, 2021, through December 31, 2021, in accordance with 19 CFR 351.212(c)(1)(i). Commerce intends to issue appropriate assessment instructions directly to CBP no earlier than 35 days after the date of publication of this notice in the Federal Register.

Cash Deposit Requirements

In accordance with section 751(a)(2)(C) of the Act, Commerce also intends to instruct CBP to collect cash deposits of estimated countervailing duties in the amounts indicated for the producers/exporters listed above with regard to shipments of subject merchandise entered, or withdrawn from warehouse, for consumption on or after the date of publication of the final results of this review. For all non-reviewed firms, CBP will continue to collect cash deposits of estimated countervailing duties at the all-others rate or the most recent company-specific rate applicable to the company, as appropriate. These cash deposit requirements, when imposed, shall remain in effect until further notice.

Public Comment

Case briefs or other written comments may be submitted to the Assistant Secretary for Enforcement and Compliance no later than 30 days after the publication of these preliminary results of review in the Federal Register.⁶ Rebuttal comments, limited to issues raised in case briefs, may be submitted no later than seven days after the deadline for filing case briefs.⁷ Parties who submit case or rebuttal briefs in this administrative review are encouraged to submit with each argument: (1) a statement of the issue; (2) a brief summary of the argument; and (3) a table of authorities.⁸ Case and rebuttal briefs must be filed using ACCESS.⁹ An electronically filed document must be received successfully in its entirety by ACCESS by 5:00 p.m. Easter Time on the established deadline. Note that Commerce has temporarily modified certain of its requirements for serving documents containing business proprietary information, until further notice.¹⁰

⁶ See 19 CFR 351.309(c).

⁷ See 19 CFR 351.309(d).

⁸ See 19 CFR 351.309(c)(2) and 351.309(d)(2).

⁹ See 19 CFR 351.303.

¹⁰ See 19 CFR 351.309; see also 19 CFR 351.303 (for general filing requirements); and Temporary Rule Modifying AD/CVD Service Requirements Due to COVID-19; Extension of Effective Period, 85 FR 41363 (July 10, 2020).

Pursuant to 19 CFR 351.310(c), parties who wish to request a hearing, limited to issues raised in the case and rebuttal briefs, must do so within 30 days after the publication of these preliminary results by submitting a written request to the Assistant Secretary for Enforcement and Compliance using ACCESS. Hearing requests should contain: (1) the party's name, address, and telephone number; (2) the number of participants; and (3) a list of the issues to be discussed. Issues addressed at the hearing will be limited to those raised in briefs. If a request for a hearing is made, Commerce will inform parties of the scheduled date for the hearing.¹¹

¹¹ See 19 CFR 351.310.

Unless the deadline is extended pursuant to section 751(a)(3)(A) of the Act, we intend to issue the final results of this administrative review, including the results of our analysis of the issues raised by interested parties in their case briefs, within 120 days after the issuance of these preliminary results of this administrative review.

Notification to Interested Parties

We are issuing and publishing these preliminary results in accordance with sections 751(a)(1) and 777(i)(1) of the Act, and 19 CFR 351.221(b)(4).

Dated: January 27, 2023.
Lisa W. Wang,
Assistant Secretary for Enforcement and Compliance.

Appendix I—List of Companies for Which Commerce Is Rescinding its Administrative Review

1. American International Cargo Service Inc

2. Anhui Morden Living Co., Ltd.

3. Anson

4. Beijing Kingpeng International Agriculture Corporation

5. Bisen Smart Access Co., Ltd

6. Caribbean Galaxy Aluminum, S.R.L.

7. Changshu Liyuan Imp. & Exp. Co., Ltd.

8. Changshu Wojun Machinery Equipment

9. Changzhou Hivalue Impex Co Ltd

10. Changzhou Infusion Plastics Industries

11. Changzhou Ryan-Al Door

12. Changzhou Yongming Machinery Manufacturing Co., Ltd.

13. Chenming Industry and Commerce Shouguang Co., Ltd.

14. Comau (Shanghai) Engineering Co., Ltd.

15. Dalian Senmiao Wooden Products Co., Ltd.

16. Dmax New Material Technology Co., Ltd.

17. Dura Shower Enclosures Co., Ltd.

18. Eastlinx Xiamen Co., Ltd.

19. Epson Engineering (Shenzhen) Ltd.

20. Foshan City Nanhai Yongfeng Aluminum

21. Fuzhou Sunmodo New Energy Equipment Co., Ltd.

22. General Equipment Technology Development Ltd.

23. Guangdong Canbo Electrical Co., Ltd.

24. Guangdong JMA Aluminum Profile Factory (Group) Co., Ltd.

25. Guangdong Yaoyinshan Aluminum Co., Ltd.

26. Guangzhou Graly Lighting Co., Ltd.

27. Hangzhou Evernew Machinery & Equipment Co., Ltd.

28. Hangzhou Siyi Imp.&Exp. Co., Ltd.

29. Hota International Logistics Co., Ltd

30. HTL Furniture (China) Co., Ltd.

31. Huazhijie Plastic Products

32. Jer Education Technology

33. Ji & Da Trading Co, Ltd.

34. Jiangsu Asia Pacific Aviation Technology Co., Ltd.

35. Jiangsu Singcheer Intelligent Equipment Co., Ltd.

36. Larkcop International Co Ltd

37. Lien Chiang Furniture Hardware Co.

38. Maxable Global Company Limited

39. Mithras Glass Hardware Factory

40. Ningbo Baihui Furniture Co., Ltd.

41. Ningbo Huige Metal Products Co., Ltd.

42. Ningbo Mark One International

43. Ningbo Yinzhou Outdoor Equipment Co., Ltd.

44. Novista Group Co., Ltd.

45. Paleo Furniture Co., Ltd.

46. Qingdao Huayu Hardware Products Co.

47. Qingdao Mrp Industry Co., Ltd.

48. Qingdao Sea Nova Building

49. Reifenhauser Plastics Machinery (Suzhou) Co., Ltd.

50. Rubicon Impt & Expt Co., Limited

51. Shandong Golden Realm Industrial Co., Ltd.

52. Shandong Mount Tai Sheng Li Yuan Glass Co., Ltd.

53. Shanghai An Mao E-Commerce Co Ltd

54. Shanghai Jobbetter Plastic Machinery Co., Ltd.

55. Shanghai Promise Metal Co Ltd

56. Shanghai Xindun Trade Co., Ltd.

57. Shenyang Yuanda Aluminum Industry Engineering Co. Ltd.

58. Shenzhen Beiruitong Trade Co., Ltd

59. Shenzhen Thomas Homeware Co., Limited

60. Shenzhen Wanduoyi Supply Chain Co., Ltd.

61. Shenzhen Wision Industrial Co., Ltd.

62. Shenzhen Xinjiayi Plastic & Metal, Co. Ltd.

63. ShineLong Technology Corp., Ltd.

64. Suzhou Bonate Int. Trading Co., Ltd.

65. Suzhou Futong New Materials and High-tech Co., Ltd.

66. Suzhou Hengxiang Import & Export Co., Ltd.

67. Suzhou Jwell Machinery Co., Ltd.

68. Taizhou Meihua Work of Art Co., Ltd.

69. The Tigereye International Trading Co. Ltd.

70. Tianjin Hyosung Packaging Product Co., Ltd.

71. Top Asian Resource Co., Ltd.

72. Wuxi Longdet Imp. & Exp. Co., Ltd.

73. Wuxi Rapid Scaffolding Engineering

74. Xiamen Hosetechnique Ltd.

75. Yantai Jintai International Trade Co., Ltd.

76. Jiangsu Yizheng Haitian Aluminum Industrial

77. Yonn Yuu Enterprise Co., Ltd.

78. Yuyao Royal Industrial

79. Zhangjiagang Kingplas Machinery Co., Ltd.

80. Zhejiang Hengfeng Technology Co., Ltd

81. Zhuji Wenfeng Import and Export Co.

Appendix II—List of Topics Discussed in the Preliminary Decision Memorandum

I. Summary

II. Background

III. Partial Rescission of Administrative Review

IV. Scope of the Order

V. Diversification of China's Economy

VI. Use of Facts Otherwise Available and Application of Adverse Inferences

VII. Recommendation

[FR Doc. 2023-02215 Filed 2-2-23; 8:45 am]

BILLING CODE 3510-DS-P